SECURITIES AND EXCHANGE COMMISSION

[Release No. 34-45029; File No. SR-SCCP-2001-10]

Self-Regulatory Organizations; Stock Clearing Corporation of Philadelphia; Notice of Filing and Immediate Effectiveness of a Proposed Rule Change Relating to the Extensions of Invoice Dates and the Associated Waiver of Late Charges

November 6, 2001.

Pursuant to section 19(b)(1) of the Securities Exchange Act of 1934 (“Act”), ¹ notice is hereby given that on October 3, 2001, the Stock Clearing Corporation of Philadelphia (“SCCP”) filed with the Securities and Exchange Commission (“Commission”) the proposed rule change as described in Items I, II, and III below, which items have been prepared primarily by SCCP. The Commission is publishing this notice to solicit comments on the proposed rule change from interested persons.

¹ 15 U.S.C. 78s(b)(1).

I. Self-Regulatory Organization's Statement of the Terms of Substance of the Proposed Rule Change

The proposed rule change waives late charges that may have resulted from the extension of SCCP's July and August invoice due dates.² Charges that appeared on SCCP's July and August invoices were originally due on September 14, 2001 and October 15, 2001, respectively. The due date for the July invoices was extended to October 15, 2001, and the due date for the August invoices was extended to November 14, 2001. Associated late charges that may have been imposed under SCCP Rule 25 as a result of these extensions are waived.³

² Pursuant to SCCP Rule 25, SCCP shall impose upon any participant using the facilities or services of SCCP, or enjoying any of the privileges therein, a late charge until payment is received of dues, fees, fines or other charges imposed by SCCP and not paid within thirty (30) days after notice thereof has been mailed.

³ Late charges incurred in connection with invoices other than the July and August invoices will not be waived. In addition, late charges may be imposed on the July and August invoices if payment is received after October 15, 2001, for the July invoice and after November 14, 2001, for the August invoice.

II. Self-Regulatory Organization's Statement of the Purpose of, and Statutory Basis for, the Proposed Rule Change

In its filing with the Commission, SCCP included statements concerning the purpose of and basis for the proposed rule change and discussed any comments it received on the proposed rule change. The text of these statements may be examined at the places specified in Item IV below. SCCP has prepared summaries, set forth in sections (A), (B), and (C) below, of the most significant aspects of such statements.⁴

⁴ The Commission has modified parts of these statements.

(A) Self-Regulatory Organization's Statement of the Purpose of, and Statutory Basis for, the Proposed Rule Change

The proposed rule change waives associated late charges that may have been imposed as a result of an extension of SCCP's July and August invoice due dates. SCCP's July and August invoices are being extended to promote liquidity in the trading crowds during the aftermath of the terrorist attacks in New York City, and Washington, DC that occurred on September 11, 2001. In addition, the accounting departments of some participants were displaced, which may make it difficult to pay the invoices by the due date.

The proposed rule change is consistent with the requirements of section 17A of the Act because all SCCP participants will receive a waiver of associated late charges that may have been incurred during the extension fo SCCP's July and August invoice dates.

(B) Self-Regulatory Organization's Statement on Burden on Competition

SCCP does not believe that the proposed rule change will impose any inappropriate burden on competition.

(C) Self-Regulatory Organization's Statement on Comments on the Proposed Rule Change Received From Members, Participants, or Others

No written comments were either solicited or received.

III. Date of Effectiveness of the Proposed Rule Change and Timing for Commission Action

Becuase the foregoing rule change establishes fees to be imposed by SCCP upon clearing members, it has become effective pursuant to section 19(b)(3)(A)(ii) of the Act ⁵ and rule 19b-4(f)(2).⁶ At any time within sixty days of the filing of the proposed rule change, the Commission may summarily abrogate such rule change if it appears to the Commission that such action is necessary or appropriate in the public interest, for the protection of investors, or otherwise in furtherance of the purposes of the Act.

⁵ 15 U.S.C. 78s(b)(3)(A)(ii).

⁶ 17 CFR 240. 19b 4(f)(2)

VI. Solicitation of Comments

Interested persons are invited to submit written data, views, and arguments concerning the foregoing, including whether the proposed rule change is consistent with the Act. Persons making written submissions should file six copies thereof with the Secretary, Securities and Exchange Commission, 450 Fifth Street NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street NW., Washington, DC 20549. Copies of such filing will also be available for inspection and copying at the principal office of SCCP. All submissions should refer to the File No. SR-SCCP-2001-10 and should be submitted by December 5, 2001.

For the Commission by the Division of Market Regulation, pursuant to delegated authority.⁷
⁷ 17 CFR 200.30-3(a)(12).
Margaret H. McFarland,
Deputy Secretary.

[FR Doc. 01-28486 Filed 11-13-01; 8:45 am]

BILLING CODE 8010-01-M